OFFICE OF THE UNITED STATES TRADE REPRESENTATIVE

Notice of Re-scheduled Public Hearing Concerning China's Compliance With WTO Commitments

AGENCY: Office of the United States Trade Representative.

ACTION: Notice of re-scheduled public hearing concerning China's compliance with its WTO commitments.

SUMMARY: The interagency Trade Policy Staff Committee (TPSC) has re-scheduled the public hearing that was to be held to assist the Office of the United States Trade Representative (USTR) in its preparation of its annual report to the Congress on China's compliance with the commitments that it made in connection with its accession to the World Trade Organization (WTO).

DATES: The public hearing concerning China's compliance with its WTO commitments will be held on Friday, October 3, 2003 in the Truman Room at the White House Conference Center, 726 Jackson Place NW., Washington, DC.

FOR FURTHER INFORMATION CONTACT: For procedural questions concerning participation in the public hearing, contact Gloria Blue, (202) 395-3475. All other questions should be directed to Terrence J. McCartin, Director of Monitoring and Enforcement for China, (202) 395-3900, or David L. Weller, Assistant General Counsel, (202) 395-3581.

SUPPLEMENTARY INFORMATION: On July 21, 2003, the TPSC published a Request for Comments and Notice of Public Hearing Concerning China's Compliance With WTO Commitments in the Federal Register (68 FR 43247). In that notice, the TPSC scheduled a public hearing for Thursday, September 18, 2003. The TPSC subsequently had to postpone the hearing because Federal Government offices were closed that day due to Hurricane Isabel.

The TPSC will hold the public hearing concerning China's compliance with its WTO commitments on Friday, October 3, 2003, beginning at 10 a.m., in the Truman Room at the White House Conference Center, which is located at 726 Jackson Place, NW., Washington, DC 20006.

Carmen Suro-Bredie,
Chairman, Trade Policy Staff Committee.

[FR Doc. 03-24634 Filed 9-29-03; 8:45 am]

BILLING CODE 3190-01-P